DEPARTMENT OF EDUCATION

Privacy Act of 1974; System of Records—Teacher Survey Response Incentive System

AGENCY: Institute of Education Sciences, Department of Education.

ACTION: Notice of a new system of records.

SUMMARY: In accordance with the Privacy Act of 1974, as amended (Privacy Act), the Department of Education (Department) publishes this notice of a new system of records entitled “Teacher Survey Response Incentive System” (18-13-22).

The Teacher Survey Response Incentive System is used to mail incentive payments to respondents in a Teacher Survey being conducted by the National Study on Alternate Assessments and will include respondent teacher names and contact information.

DATES: The Department seeks comment on the new system of records described in this notice, in accordance with the requirements of the Privacy Act. We must receive your comments about this new system of records on or before May 28, 2009.

The Department filed a report describing the new system of records covered by this notice with the Chair of the Senate Committee on Homeland Security and Governmental Affairs, the Chair of the House Committee on Oversight and Government Reform, and the Administrator of the Office of Information and Regulatory Affairs, Office of Management and Budget (OMB) on April 23, 2009. This system of records will become effective at the later date of—(1) the expiration of the 40-day period for OMB review on June 2, 2009; or (2) May 28, 2009, unless the system of records needs to be changed as a result of public comment or OMB review.

ADDRESSES: Address all comments about this proposed system of records to Kristen Lauer, PhD, National Center for Special Education Research, Institute of Education Sciences, U.S. Department of Education, 555 New Jersey Avenue, NW., Room 508H, Washington, DC 20208-5550. If you prefer to send comments through the Internet, use the following address: comments@ed.gov.

You must include the term “Teacher Survey Response Incentive System” in the subject line of your electronic message.

During and after the comment period, you may inspect all comments about this notice at the Department in room 508H, 555 New Jersey Avenue, NW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Kristen Lauer, National Center for Special Education Research, Institute of Education Sciences, U.S. Department of Education, 555 New Jersey Avenue, NW., Room 508H, Washington, DC 20208-5550. Telephone: (202) 219-0377. If you use a telecommunications device for the deaf (TDD), call the Federal Relay Service (FRS), toll free, at 1-800-877-8339.

Individuals with disabilities can obtain this document in an alternative format (e.g., Braille, large print, audiotape, or computer diskette) on request to the contact person listed in this section.

SUPPLEMENTARY INFORMATION:

Introduction

The Privacy Act (5 U.S.C. 552a(e)(4)) requires the Department to publish in the Federal Register this notice of a new system of records maintained by the Department. The Department's regulations implementing the Privacy Act are contained in part 5b of title 34 of the Code of Federal Regulations (CFR).

The Privacy Act applies to a record about an individual that is maintained in a system of records from which individually identifying information is retrieved by a unique identifier associated with each individual, such as a name or social security number. The information about each individual is called a “record,” and the system, whether manual or computer-based, is called a “system of records.”

The Privacy Act requires each agency to publish a notice of a system of records in the Federal Register and to submit, whenever the agency publishes a new system of records or makes a significant change to an established system of records, a report to the Administrator of the Office of Information and Regulatory Affairs, OMB. Each agency is also required to send copies of the report to the Chair of the Committee on Oversight and Government Reform of the House of Representatives, and to the Chair of the Committee on Homeland Security and Governmental Affairs of the Senate. These reports are intended to permit an evaluation of the probable effect of the proposal on the privacy rights of individuals.

Electronic Access to This Document

You can view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara.

Dated: April 23, 2009.
Sue Betka,
Acting Director, Institute of Education Sciences.

For the reasons discussed in the preamble, the Acting Director of the Institute of Education Sciences (IES), U.S. Department of Education (the Department), publishes a notice of a new system of records to read as follows:

SYSTEM NUMBER:

18-13-22

SYSTEM NAME:

Teacher Survey Response Incentive System.

SECURITY CLASSIFICATION:

None.

SYSTEM LOCATIONS:

(1) National Center for Education Statistics, Institute of Education Sciences, 1990 K Street, NW., Washington, DC 20006-1103.

(2) SRI International, 333 Ravenswood Ave., Menlo Park, CA 94025-3493 (contractor).

CATEGORIES OF INDIVIDUALS COVERED BY THE SYSTEM:

The Teacher Survey Response Incentive System contains records of respondents to the Teacher Survey being administered as part of the National Study on Alternate Assessments Teacher Survey.

CATEGORIES OF RECORDS IN THE SYSTEM:

The Teacher Survey Response Incentive System contains records, including name and contact information, necessary for mailing incentive checks to survey respondents.

AUTHORITY FOR MAINTENANCE OF THE SYSTEM:

The Teacher Survey is part of the National Study on Alternate Assessments, which is authorized by section 664(c) of the Individuals with Disabilities Education Act (20 U.S.C. 1464(c)). This Study is also authorized under sections 171(b) and 173 of the Education Sciences Reform Act of 2002 (ESRA) (20 U.S.C. 9561(b) and 9563).

PURPOSE(S):

The information contained in the records maintained in this system is used for the following purpose: To allow the Department's contractor administering the National Study on Alternate Assessments (NSAA) Teacher Survey to mail response incentive checks to respondents who complete the survey.

ROUTINE USES OF RECORDS MAINTAINED IN THE SYSTEM, INCLUDING CATEGORIES OF USERS AND THE PURPOSES OF SUCH USES:

The Department may disclose information contained in a record in this system of records without the consent of the individual if the disclosure is compatible with the purposes for which the record was collected. The Department may make these disclosures on a case-by-case basis, or, if the Department has complied with the computer matching requirements of the Computer Matching and Privacy Protection Act of 1988, as amended, under a computer matching agreement. Any disclosure of individually identifiable information from a record in this system must also comply with the requirements of section 183 of the ESRA (20 U.S.C. 9573) providing for confidentiality standards that apply to all collections, reporting and publication of data by IES.

Contract Disclosure. If the Department contracts with an entity to perform any function that requires disclosing records to the contractor's employees, the Department may disclose the records to those employees. Before entering into such a contract, the Department shall require the contractor to maintain Privacy Act safeguards as required under 5 U.S.C. 552a(m) with respect to the records in the system.

DISCLOSURE TO CONSUMER REPORTING AGENCIES:

Not applicable to this system of records notice.

POLICIES AND PRACTICES FOR STORING, RETRIEVING, ACCESSING, RETAINING, AND DISPOSING OF RECORDS IN THE SYSTEM:

STORAGE:

Records are maintained in a database on the Department's and the contractor's secure servers and in other electronic storage media.

RETRIEVABILITY:

Records are retrieved by respondent name.

SAFEGUARDS:

Access to the records is limited to authorized personnel only. All physical access to the Department's site and to the site of the Department's contractor where this system of records is maintained, is controlled and monitored by security personnel who check each individual entering the buildings for his or her employee or visitor badge.

The computer system employed by the Department and by the Department's contractor offers a high degree of resistance to tampering and circumvention. This security system limits data access to Department and contract staff on a need-to-know basis, and controls an individual user's ability to access and alter records within the system.

RETENTION AND DISPOSAL:

Source records for Teachers Survey Response Incentive System input are destroyed after the information has been entered into the system and verified, in accordance with the National Archives and Records Administration General Records Schedules (GRS) 20, Item 2a(4). System records are destroyed/deleted when 2 years old, in accordance with GRS 23, Item 8.

SYSTEM MANAGER(S) AND ADDRESS:

Contracting Officer's Representative (COR), National Study on Alternate Assessments, National Center for Special Education Research, Institute of Education Sciences, U.S. Department of Education, 555 New Jersey Avenue, NW., Washington, DC 20208-5550.

NOTIFICATION PROCEDURE:

If you wish to determine whether a record exists regarding you in the system of records, contact the system manager. Your request must meet the requirements of regulations in 34 CFR 5b.5, including proof of identity.

RECORD ACCESS PROCEDURE:

If you wish to gain access to your record in the system of records, contact the system manager at the address listed under, SYSTEM MANAGER AND ADDRESS. Your request should contain your full name, address, and telephone number. Your request must meet the requirements of regulations in 34 CFR 5b.5, including proof of identity.

CONTESTING RECORD PROCEDURE:

If you wish to contest the content of a record regarding you in the system of records, contact the system manager. Your request must meet the requirements of the regulations in 34 CFR 5b.7, including proof of identity.

RECORD SOURCE CATEGORIES:

Information, including name and contact information, maintained in this system of records is taken from teachers who respond to the Teacher Survey, which is being administered as part of the National Study on Alternate Assessments.

EXEMPTIONS CLAIMED FOR THIS SYSTEM:

None.

[FR Doc. E9-9662 Filed 4-27-09; 8:45 am]

BILLING CODE 4000-01-P